NUCLEAR REGULATORY COMMISSION

Regulatory Guide; Issuance, Availability

The Nuclear Regulatory Commission has issued two new guides in its Regulatory Guide Series. This series has been developed to describe and make available to the public such information as methods acceptable to the NRC staff for implementing specific parts of the NRC's regulations, techniques used by the staff in evaluating specific problems or postulated accidents, and data needed by the staff in its review of applications for permits and licenses.

Regulatory Guide 1.184, “Decommissioning of Nuclear Power Reactors,” in conjunction with other guides, describes methods and procedures that are acceptable to the NRC staff for implementing the NRC's regulations on the initial activities and the major phases of the decommissioning process. Regulatory Guide 1.185, “Standard Format and Content for Post-Shutdown Decommissioning Activities Report,” provides guidance on the type of information that is to be included in the licensee's Post-Shutdown Decommissioning Activities Report, and it establishes a standard format for the information in this report.

Comments and suggestions in connection with items for inclusion in guides currently being developed or improvements in all published guides are encouraged at any time. Written comments may be submitted to the Rules and Directives Branch, Division of Administrative Services, Office of Administration, U.S. Nuclear Regulatory Commission, Washington, DC 20555.

Regulatory guides are available for inspection or downloading at the NRC's Public Electronic Reading Room at <WWW.NRC.GOV>. Single copies of regulatory guides may be obtained free of charge by writing the Reproduction and Distribution Services Section, U.S. Nuclear Regulatory Commission, Washington, DC 20555-0001, or by fax to (301) 415-2289, or by email to <DISTRIBUTION@NRC.GOV>. Issued guides may also be purchased from the National Technical Information Service on a standard order basis. Details on this service may be obtained by writing NTIS, 5285 Port Royal Road, Springfield, VA 22161. Regulatory guides are not copyrighted, and Commission approval is not required to reproduce them.

(5 U.S.C. 552(a))

Dated at Rockville, Maryland, this 7th day of August 2000.
For the Nuclear Regulatory Commission.
Ashok C. Thadani,
Director, Office of Nuclear Regulatory Research.

[FR Doc. 00-20688 Filed 8-14-00; 8:45 am]

BILLING CODE 7590-01-M